ENVIRONMENTAL PROTECTION AGENCY

[FRL-8039-4]

Science Advisory Board Staff Office; Notification of Public Teleconference Meetings of the Science Advisory Board; Radiation Advisory Committee (RAC) RadNet Review Panel

AGENCY: Environmental Protection Agency (EPA).

ACTION: Notice.

SUMMARY: The EPA Science Advisory Board (SAB) Staff Office announces three public teleconference meetings of the SAB Radiation Advisory Committee (RAC) RadNet Review Panel to conduct edits in review of the Environmental Protection Agency's (EPA) Office of Radiation and Indoor Air (ORIA) draft document entitled “Expansion and Upgrade of the RadNet Air Monitoring Network,” (Vols. 1 & 2), dated October 2005.

DATES: Public teleconference meetings of the SAB Radiation Advisory Committee (RAC) RadNet Review Panel will be held eastern standard time on Monday, March 20, 2006 from 10 a.m. to 1 p.m., Monday April 10, 2006 from 1 p.m. to 4 p.m., and Monday, June 12, 2006 from 1 p.m. to 4 p.m. Should any of these conference call meetings be unnecessary, a notice of cancellation of the meeting will be posted on the SAB's Web site at http://www.epa.gov/sab. In addition, the DFO for the RAC's RadNet Review Panel will be on the line for five minutes to advise any callers if any of these meetings have been cancelled or postponed.

ADDRESSES: The public teleconference meetings will take place via telephone only.

FOR FURTHER INFORMATION CONTACT: Members of the public who wish to obtain the call-in number and access code for the teleconference meetings, or further information concerning the public meetings may contact Dr. K. Jack Kooyoomjian, Designated Federal Officer (DFO), by mail at EPA SAB Staff Office (1400F), U.S. EPA, 1200 Pennsylvania Avenue, NW., Washington, DC 20460; by telephone at (202) 343-9984; by fax at (202) 233-0643; or by e-mail at: kooyoomjian.jack@epa.gov. General information concerning the SAB can be found on the SAB Web site at: http://www.epa.gov/sab.

Technical Contact: For questions and information concerning the Agency's draft document being reviewed, contact Dr. Mary E. Clark, U.S. EPA, ORIA by telephone at (202) 343-9348, fax at (202) 243-2395, or e-mail at clark.marye@epa.gov.

SUPPLEMENTARY INFORMATION: Summary: EPA's ORIA has requested EPA's Science Advisory Board to review its draft document “Expansion and Upgrade of the RadNet Air Monitoring Network,” (Vols. 1 & 2), dated October, 2005. The purpose of the upcoming teleconference meetings is for the RAC's RadNet Review Panel to edit the Panel's draft report following the Panel's face-to-face meeting of December 19 and 20, 2005 at the National Air and Radiation Environmental Laboratory (NAREL) in Montgomery, Alabama in review of the EPA's draft document.

The SAB was established by 42 U.S.C. 4365 to provide independent scientific and technical advice, consultation, and recommendations to the EPA Administrator on the technical basis for Agency positions and regulations. The review will be conducted by the RAC's RadNet Review Panel, consisting of current SAB RAC members and additional outside experts. The Panel will comply with the provisions of the Federal Advisory Committee Act (FACA) and all appropriate SAB procedural policies. As such, all public meetings will be announced in the Federal Register at least 15 days prior to their scheduled times.

Background: Pursuant to the Federal Advisory Committee Act, Public Law 92-463, the SAB Staff Office hereby gives notice of three public teleconference meetings of the Radiation Advisory Committee (RAC) RadNet Review Panel. The EPA ORIA requested the SAB to provide advice on RadNet, which is the National Monitoring System (NMS) upgrade, formerly known as the Environmental Radiation Ambient Monitoring System (ERAMS). The RAC's RadNet Review Panel has been reviewing the draft document entitled “Expansion and Upgrade of the RadNet Air Monitoring Network,” (Vols. 1 & 2), dated October 2005.

Purpose of Monday, March 20, 2006, 10 a.m. to 1 p.m. EST Teleconference Meeting: The purpose is to edit the RAC's RadNet Review Panel's March draft report. The intention of the Panel is to edit and obtain Panel consensus on the body of the draft report in response to the charge questions.

Purpose of Monday, April 10, 2006, 1 p.m. to 4 p.m. EST Teleconference Meeting: The purpose is to further edit and format the RAC RadNet Review Panel's draft report following the March 20, 2006 conference call, and to draft an Executive Summary and Letter to the Administrator in response to the charge questions.

Purpose of Monday, June 12, 2006, 1 p.m. to 4 p.m. EST Teleconference Meeting: The purpose is to finalize edits to the Panel's consensus draft following the April 10, 2006 conference call.

Availability of Meeting Materials: A roster of the Panel members, the teleconference agendas, the charge to the Panel, the Panel's draft report, as well as other draft materials to be discussed by the Panel will be posted on the SAB Web site at (http://www.epa.gov/sab) prior to the teleconference meeting. Additional background information on this review include notification of a public teleconference meeting of the RAC to receive briefings from the Agency and discuss its advisory agenda for FY 2005 [70 FR 4847, January 31, 2005], a request for nominations of experts [70 FR15083, March 24, 2005], and notification of a public teleconference and meeting [70 FR 69550, November 16, 2005]. All these notices, the charge to the Panel, other supplemental information, and drafts prepared by the Panel may be found at the SAB's Web site (http://www.epa.gov/sab).

Persons who wish to obtain additional background materials on the current ERAMS network may find them at the following Web site: http://www.epa.gov/narel/radnet. Copies of the materials provided to the RAC's RadNet Review Panel, including the Agency's draft document entitled “Expansion and Upgrade of the RadNet Air Monitoring Network,” (Vols. 1 & 2), dated October 2005 as well as briefing materials and other background materials pertinent to the activities announced in this notice may be requested from Dr. Mary E. Clark of the U.S. EPA, ORIA by telephone at (202) 343-9348, fax at (202) 243-2395, or e-mail at clark.marye@epa.gov.

Procedures for Providing Public Input: Interested members of the public may submit relevant written or oral information for the SAB Panel to consider during the advisory process. Oral Statements: In general, individuals or groups requesting an oral presentation at a public teleconference will be limited to three minutes per speaker with no more than a total of fifteen minutes for all speakers. Interested parties should contact the DFO, contact information provided above, in writing via e-mail seven days prior to the teleconference meeting date. For the March 20, 2006 teleconference meeting, the deadline is Monday, March 13, 2006. For the April 10, 2006 teleconference meeting, the deadline is Monday, April 3, 2006, and for the June 12, 2006 teleconference meeting, the deadline is Monday, June 5, 2006 to be placed on the public speaker list for the teleconference. Written Statements: Written statements should be received in the SAB Staff Office seven days prior to the teleconference meeting. For the March 20, 2006 teleconference meeting, the deadline is Monday, March 13, 2006; for the April 10, 2006 teleconference meeting the deadline is Monday, April 3, 2006, and for the June 12, 2006 teleconference meeting, the deadline is Monday, June 5, 2006, so that the information may be made available to the Panel for their consideration. Written statements should be supplied to the DFO in the following formats: one hard copy with original signature, and one electronic copy via e-mail (acceptable file format: Adobe Acrobat, WordPerfect, Word, or Rich Text files in IBM-PC/Windows 98/2000/XP format).

Meeting Accommodations: For information on access or services for individuals with disabilities, please contact the DFO, contact information provided above. To request accommodation of a disability, please contact the DFO, preferably at least 10 days prior to the meeting, to give EPA as much time as possible to process your request.

Dated: February 23, 2006.
Anthony F. Maciorowski,
Associate Director for Science, EPA Science Advisory Board Staff Office.

[FR Doc. E6-2898 Filed 2-28-06; 8:45 am]

BILLING CODE 6560-50-P